DEPARTMENT OF TRANSPORTATION

Federal Transit Administration

Notice To Renew the Transit Advisory Committee for Safety Charter

AGENCY: Federal Transit Administration, Department of Transportation.

ACTION: Notice of renewal of the charter for the Transit Advisory Committee for Safety.

SUMMARY: The Federal Transit Administration (FTA) announces the renewal of the Transit Advisory Committee for Safety (TRACS) charter. The current TRACS charter expires on February 2, 2024. The U.S. Department of Transportation and FTA are committed to ensuring the safety of the Nation's public transportation systems and reducing the safety risk to both riders and transit workers. The Secretary of Transportation (Secretary) has determined that renewing TRACS is necessary and in the public interest.

DATES: This charter will be effective for two years from the date it is filed with Congress and uploaded into the General Services Administration Federal Advisory Committee Act (FACA) Database.

FOR FURTHER INFORMATION CONTACT: Joseph DeLorenzo, TRACS Designated Federal Officer and FTA Associate Administrator for Transit Safety and Oversight, (202) 366-1783, Joseph.DeLorenzo@dot.gov; or Bridget Zamperini, TRACS Program Manager, FTA Office of Transit Safety and Oversight, TRACS@dot.gov.

SUPPLEMENTARY INFORMATION: This notice announces the Secretary's renewal of TRACS as a Federal Advisory Committee in accordance with FACA (Pub. L. 92-463, 5 U.S.C. ch. 10) to provide information, advice, and recommendations to the Secretary and the FTA Administrator on matters relating to the safety of public transportation systems. TRACS continues its task of providing advice and recommendations on improvements and innovations in transit safety. TRACS reviews current challenges and innovations in public transportation and provides recommendations that FTA can implement in support of safety in the public transportation sector.

This notice is provided in accordance with the Federal Advisory Committee Act. Please see the TRACS website for additional information at https://www.transit.dot.gov/regulations-and-guidance/safety/transit-advisory-committee-safety-tracs.

Nuria I. Fernandez,
Administrator.

[FR Doc. 2024-01274 Filed 1-22-24; 8:45 am]

BILLING CODE 4910-57-P